DEPARTMENT OF LABOR

Employment and Training Administration

[TA-W-65,318]

Americas Styrenics, LLC, Marietta, OH; Notice of Termination of Investigation

Pursuant to Section 221 of the Trade Act of 1974, as amended, an investigation was initiated on February 20, 2009 in response to a petition filed by the United Steelworkers of America, Local 14200 on behalf of workers of Americas Styrenics, LLC, Marietta, Ohio.

The petitioner has requested that the petition be withdrawn. Consequently, the investigation has been terminated.

Signed at Washington, DC this 31st day of March 2009.
Linda G. Poole,
Certifying Officer, Division of Trade Adjustment Assistance.

[FR Doc. E9-10220 Filed 5-4-09; 8:45 am]

BILLING CODE 4510-FN-P